DEPARTMENT OF STATE

[Public Notice 4580]

Bureau of Educational and Cultural Affairs; Middle East Partnership Initiative (MEPI) U.S. Business Internship Program for Young Middle Eastern Women

ACTION: Correction to proposal submission date.

The MEPI U.S. Business Internship Program for Young Middle Eastern Women was announced in Public Notice 4575 published on Monday, December 29, with an incorrect proposal submission date. The correct date should read, “February 17, 2004”. All other program information remains the same.

SUPPLEMENTARY INFORMATION: Interested U.S. organizations should contact Robert Greenan at 202-619-5437 for additional information.

The Middle East Partnership Initiative (MEPI) U.S. Business Internship Program for Young Middle Eastern Women was announced in the Federal Register, Volume 68, Number 248, on December 29, 2003.

Dated: December 30, 2003.
C. Miller Crouch,
Principal Deputy Assistant Secretary for Educational and Cultural Affairs, Department of State.

[FR Doc. 04-228 Filed 1-5-04; 8:45 am]

BILLING CODE 4710-05-P